DEPARTMENT OF THE INTERIOR

Bureau of Land Management

[WY-060-1320-EL, WYW164812, WYW172388, WYW172685, WYW173408]

Notice of Intent (NOI) To Prepare an Environmental Impact Statement (EIS) and Notice of Public Meeting on Four Federal Coal Lease Applications in the Decertified Powder River Federal Coal Production Region, WY

AGENCY: Bureau of Land Management, Interior.

ACTION: Notice of intent and notice of public meeting.

SUMMARY: Pursuant to Section 102(2)(C) of the National Environmental Policy Act (NEPA) of 1969, as amended, the Bureau of Land Management (BLM), Casper Field Office announces its intent to prepare one EIS on the potential impacts of leasing four tracts of Federal coal. The EIS will be called the Wright Area Coal EIS. Under the provisions of 43 Code of Federal Regulations (CFR) 3425.1, the BLM received the following applications to lease maintenance tracts (a maintenance tract is a parcel of land containing Federal coal reserves that can be leased to maintain production at an existing mine) in Campbell County, Wyoming:

• Ark Land Company applied for a maintenance coal lease for approximately 4,590.19 acres (approximately 588.2 million tons of coal) in a maintenance tract of Federal coal adjacent to the Black Thunder Mine. The tract, which is referred to as the Hilight Field Tract, has been assigned case number WYW164812.

• Ark Land Company applied for a maintenance coal lease for approximately 2,370.52 acres (approximately 428 million tons of coal) in a maintenance tract of Federal coal adjacent to the Black Thunder Mine. The tract, which is referred to as the West Hilight Field Tract, has been assigned case number WYW172388.

• Jacobs Ranch Coal Company applied for a maintenance coal lease for approximately 5,944.37 acres (approximately 956 million tons of coal) in a maintenance tract of Federal coal adjacent to the Jacobs Ranch Mine. The tract, which is referred to as the West Jacobs Ranch Tract, has been assigned case number WYW172685.

• BTU Western Resources, Inc. applied for a maintenance coal lease for approximately 5,116.65 acres (approximately 598 million tons of coal) in a maintenance tract of Federal coal adjacent to the North Antelope Rochelle Mine. The tract, which is referred to as the Porcupine Tract, has been assigned case number WYW173408.

Consistent with Federal regulations under NEPA and the Mineral Leasing Act of 1920, as amended, the BLM must prepare an environmental analysis prior to holding a competitive Federal coal lease sale. The Powder River Regional Coal Team recommended that BLM process these four coal lease applications after they reviewed the Hilight Field, West Hilight Field, and West Jacobs Ranch Tracts at a public meeting held on April 19, 2006, in Casper, Wyoming, and the Porcupine Tract at a public meeting held on January 18, 2007, in Casper, Wyoming.

DATES: This notice initiates the public scoping process. To provide the public with an opportunity to review the proposal and gain understanding of the coal leasing process, the BLM will host a meeting on July 24, 2007, at 7 p.m. at the Clarion Hotel and Convention Center, 2009 South Douglas Highway, in Gillette, Wyoming. At the meeting, the public is invited to submit comments and resource information, plus identify issues or concerns to be considered in the coal leasing process. The BLM can best use public input if comments and resource information are submitted by August 31, 2007. The BLM will announce future public meetings and other opportunities to submit comments on this project at least 15 days prior to the events. Announcements will be made through local news media and the Casper Field Office's Web site, which is: http://www.wy.blm.gov/cfo/.

FOR FURTHER INFORMATION CONTACT: Sarah Bucklin or Mike Karbs, BLM Casper Field Office, 2987 Prospector Drive, Casper, Wyoming 82604. Ms. Bucklin or Mr. Karbs may also be reached at (307) 261-7600.

ADDRESSES: Please submit written comments or concerns to the BLM Casper Field Office, Attn: Sarah Bucklin, 2987 Prospector Drive, Casper, Wyoming 82604. Written comments or resource information may also be hand-delivered to the BLM Casper Field Office or sent by facsimile to the attention of Sarah Bucklin at (307) 261-7587. Comments may be sent electronically to casper_wymail@blm.gov. Please include “Wright Area Coal EIS/Sarah Bucklin” in the subject line.

Members of the public may examine documents pertinent to this proposal by visiting the Casper Field Office during its business hours (7:45 a.m. to 4:30 p.m.), Monday through Friday, except holidays.

SUPPLEMENTARY INFORMATION: Ark Land Company submitted an application on October 7, 2005, to lease a maintenance tract of Federal coal adjacent to the company's Black Thunder Mine in Campbell County, Wyoming, which is operated by Thunder Basin Coal Company. The tract is known as the Hilight Field Tract. The Hilight Field Tract includes approximately 588.2 million tons of Federal coal reserves underlying the following lands in Campbell County, Wyoming:

T. 44 N., R. 70 W., 6th PM, Wyoming

Section 19: Lots 5 through 20;

T. 43 N., R.71 W., 6th PM, Wyoming

Section 23: Lots 1 through 16; Section 26: Lots 1 through 16; Section 35: Lots 1 through 16;

T. 44 N., R. 71 W., 6th PM, Wyoming

Section 23: Lots 1 through 16; Section 24: Lots 1 through 16; Section 26: Lots 1 through 16.

Containing 4,590.19 acres, more or less.

Ark Land Company proposes to mine the tract as a part of the Black Thunder Mine. At the 2006 mining rate of 92.2 million tons per year, the coal included in the Hilight Field Tract would extend the life of the Black Thunder Mine by as many as six years.

Ark Land Company submitted an application on January 17, 2006, to lease a maintenance tract of Federal coal adjacent to the company's Black Thunder Mine in Campbell County, Wyoming, which is operated by Thunder Basin Coal Company. The tract is known as the West Hilight Field Tract.

The West Hilight Field Tract includes approximately 428 million tons of Federal coal underlying the following lands in Campbell County, Wyoming:

T. 43 N., R. 71 W., 6th PM, Wyoming Section 8: Lots 1, 2, 7 through 16; Section 9: Lots 1 through 16; Section 10: Lots 3 through 6, 11 through 14; Section 17: Lots 1 through 16; Section 20: Lots 1 through 4 Section 21: Lots 3, 4.

Containing 2,370.52 acres, more or less.

Thunder Basin Coal Company proposes to mine the tract as a part of the Black Thunder Mine. At the 2006 mining rate of 92.2 million tons per year, the coal included in the West Hilight Field Tract would extend the life of the Black Thunder Mine by as many as four years.

Jacobs Ranch Coal Company submitted an application on March 24, 2006, to lease a maintenance tract of Federal coal adjacent to the company's Jacobs Ranch Mine in Campbell County, Wyoming. The tract is known as the West Jacobs Ranch Tract. The West Jacobs Ranch Tract includes approximately 956 million tons of Federal coal underlying the following lands in Campbell County, Wyoming:

T. 43 N., R. 71 W., 6th PM, Wyoming

Section 3: Lots 2, 5 through 19; Section 4: Lots 5 through 20; Section 5: Lots 5 through 20;

T. 44 N., R. 71 W., 6th PM, Wyoming

Section 22: Lots 9 through 16; Section 27: Lot 1 through 16; Section 28: Lots 1 through 3, 5 through 16; Section 29: Lots 5 through 15, SE¼SE¼; Section 32: Lots 1 through 15, SW¼SE¼; Section 33: Lots 1 through 15, NE¼SE¼; Section 34: Lots 1 through 16.

Containing 5,944.37 acres, more or less.

Jacobs Ranch Coal Company proposes to mine the tract as a part of the Jacobs Ranch Mine. At the 2006 mining rate of 39.9 million tons per year, the coal included in the West Jacobs Ranch Tract would extend the life of the Jacobs Ranch Mine by as many as 23 years.

BTU Western Resources, Inc. submitted an application on September 29, 2006, to lease a maintenance tract of Federal coal adjacent to the company's North Antelope Rochelle Mine in Campbell County, Wyoming, which is operated by Powder River Coal, LLC. The tract is known as the Porcupine Tract.

The Porcupine Tract includes approximately 598 million tons of Federal coal underlying the following lands in Campbell County, Wyoming:

T. 41 N., R. 70 W., 6th PM, Wyoming

Section 7: Lots 17, 18; Section 18: Lots 6 through 11, 14 through 19;

T. 42 N., R. 70 W., 6th PM, Wyoming

Section 19: Lots 17 through 20; Section 20: Lots 13 through 16; Section 26: Lots 9 through 16; Section 27: Lots 9 through 16; Section 29: Lots 1 through 4; Section 30: Lots 5 through 8

T. 41 N., R. 71 W., 6th PM, Wyoming

Section 12: Lots 13 through 16; Section 13: Lots 1 through 16; Section 14: Lots 1, 8, 9, 16; Section 23: Lots 1, 8(N½); Section 24: Lots 2 through 4, 5(N½), 6(N½), 7(N½);

T. 42 N., R. 71 W., 6th PM, Wyoming

Section 22: Lots 13 through 16; Section 23: Lots 13 through 16; Section 24: Lots 13 through 16; Section 25: Lots 1 through 4; Section 26: Lots 1 through 6, 11 through 14; Section 27: Lots 1 through 16; Section 35: Lots 3 through 6, 11 through 14.

Containing 5,116.65 acres, more or less.

BTU Western Resources, Inc. proposes to mine the tract as a part of the North Antelope Rochelle Mine. At the 2006 mining rate of 89.7 million tons per year, the coal included in the Porcupine Tract would extend the life of the North Antelope Rochelle by as many as six years.

Lands in the Hilight Field, West Hilight Field, and Porcupine Tracts contain Federal surface administered by the Forest Service and private surface estate which overlies the Federal coal. Lands in the West Jacobs Ranch Tract contain private surface estate which overlies the Federal coal.

The Black Thunder Mine, Jacobs Ranch Mine, and North Antelope Rochelle Mine are operating under approved mining permits from the Land Quality and Air Quality Divisions of the Wyoming Department of Environmental Quality. The USDA Forest Service and the Office of Surface Mining Reclamation and Enforcement (OSM) will be cooperating agencies in the preparation of the EIS. Before the tracts can be leased, the Forest Service must consent to leasing the portions of the tracts that are part of the Thunder Basin National Grassland. If the four tracts are leased to the applicants, the new leases must be incorporated into the existing mining and reclamation plans for the adjacent mines. Before the Federal coal in each tract can be mined, the Secretary of the Interior must approve the revised Mineral Leasing Act (MLA) mining plan for the mine in which each tract will be included. The OSM is the Federal agency that is responsible for recommending approval, approval with conditions, or disapproval of the revised MLA mining plan to the Office of the Secretary of the Interior. Other cooperating agencies may be identified during the scoping process.

The BLM will provide interested parties the opportunity to submit comments or relevant information or both. This information will help the BLM identify issues to be considered in preparing the Wright Area Coal EIS. Issues that have been identified in analyzing the impacts of previous Federal coal leasing actions in the Wyoming Powder River Basin (PRB) include the need for resolution of conflicts between existing and proposed oil and gas development and coal mining on the tracts proposed for coal leasing; potential impacts to big game herds and hunting; potential impacts to Greater sage-grouse; potential impacts to listed threatened and endangered species; potential health impacts related to blasting operations conducted by the mines to remove overburden and coal; the need to consider the cumulative impacts of coal leasing decisions combined with other existing and proposed development in the Wyoming PRB; and potential site-specific and cumulative impacts on air and water quality.

Your response is important and will be considered in the EIS process. If you do respond, we will keep you informed of the availability of environmental documents that address impacts that might occur from this proposal.

Before including your address, phone number, e-mail address, or other personal identifying information in your comment, you should be aware that your entire comment—including your personal identifying information—may be made publicly available at any time. While you can ask us in your comment to withhold your personal identifying information from public review, we cannot guarantee that we will be able to do so.

Alan Rabinoff,
Acting State Director.

[FR Doc. E7-12889 Filed 7-2-07; 8:45 am]

BILLING CODE 4310-22-P